ENVIRONMENTAL PROTECTION AGENCY

40 CFR Part 716

[EPA-HQ-OPPT-2005-0055; FRL-7764-7]

RIN 2070-AB11

Health and Safety Data Reporting; Addition of Certain Chemicals

AGENCY: Environmental Protection Agency (EPA).

ACTION: Final rule and Technical corrections.

SUMMARY: This final rule, issued pursuant to section 8(d) of the Toxic Substances Control Act (TSCA), requires manufacturers (including importers) of the chemicals listed in this document in the category of voluntary High Production Volume (HPV) Challenge Program orphan (unsponsored) chemicals to report certain unpublished health and safety data to EPA. The Interagency Testing Committee (ITC), established under section 4(e) of TSCA to recommend chemical substances and mixtures to EPA for priority testing consideration, amends the TSCA section 4(e) Priority Testing List through periodic reports submitted to EPA. The ITC recently added voluntary HPV Challenge Program orphan (unsponsored) chemicals to the Priority Testing List in its 55th and 56th ITC Reports, as amended by deletions to this list made in its 56th and 58th ITC Reports. In addition, EPA is making technical corrections to update the EPA addresses to which submissions under the health and safety data reporting rule must be mailed or delivered. This update reflects the completion of the Agency's move to the Federal Triangle complex in Washington, DC.

DATES: This final rule is effective September 15, 2006. However, § § 716.30, 716.35, 716.60, and 716.105, which contain technical corrections, are effective August 16, 2006.

For purposes of judicial review, this rule shall be promulgated at 1 p.m. eastern daylight/standard time on August 30, 2006. (See 40 CFR 23.5)

A request to withdraw a chemical from this rule pursuant to 40 CFR 716.105(c) must be received on or before August 30, 2006. (See Unit IV. of the SUPPLEMENTARY INFORMATION.)

For dates for reporting requirements, see Unit III.B. of the SUPPLEMENTARY INFORMATION.

ADDRESSES: Docket. EPA has established a docket for this action under docket identification (ID) number EPA-HQ-OPPT-2005-0055. All documents in the docket are listed on the regulations.gov web site. Although listed in the index, some information is not publicly available, e.g., Confidential Business Information (CBI) or other information whose disclosure is restricted by statute. Certain other material, such as copyrighted material, is not placed on the Internet and will be publicly available only in hard copy form. Publicly available docket materials are available either electronically at http://www.regulations.gov or in hard copy at the OPPT Docket, EPA Docket Center (EPA/DC), EPA West, Rm. B102, 1301 Constitution Ave., NW., Washington, DC. The Public Reading Room is open from 8:30 a.m. to 4:30 p.m., Monday through Friday, excluding legal holidays. The telephone number for the Public Reading Room is (202) 566-1744, and the telephone number for the OPPT Docket is (202) 566-0280.

Submissions. For submission of withdrawal requests, copies of studies and accompanying cover letters, lists of studies, and requests for extensions of time, each of which must be identified by docket ID number EPA-HQ-OPPT-2005-0055, see Unit III.D. and the regulatory text of this document.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Joe Nash, Chemical Control Division (7405M), Office of Pollution Prevention and Toxics, Environmental Protection Agency, 1200 Pennsylvania Ave., NW., Washington, DC 20460-0001; telephone number: (202) 564-8886; fax number: (202) 564-4765; e-mail address: ccd.citb@epa.gov.

SUPPLEMENTARY INFORMATION:

I. General Information

A. Does this Action Apply to Me?

You may be potentially affected by this action if you manufacture (defined by statute to include import) any of the chemical substances that are listed in 40 CFR 716.120(d) of the regulatory text of this document. Entities potentially affected by this action may include, but are not limited to:

• Chemical manufacturers (including importers), (NAICS codes 325, 32411), e.g., persons who manufacture (defined by statute to include import) one or more of the subject chemical substances.

This listing is not intended to be exhaustive, but rather provides a guide for readers regarding entities likely to be affected by this action. The North American Industrial Classification System (NAICS) codes have been provided to assist you and others in determining whether this action might apply to certain entities. If you have any questions regarding the applicability of this action to a particular entity, consult the technical person listed under FOR FURTHER INFORMATION CONTACT.

B. How Do I Submit CBI Information?

Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

II. Background

A. What Action is the Agency Taking?

EPA is issuing a Health and Safety Data Reporting rule under TSCA section 8(d) which requires manufacturers (including importers) of chemicals in the category (as defined by the ITC in its 55th, 56th, and 58th ITC Reports (Refs. 1, 2, and 3)) of voluntary HPV Challenge Program orphan (unsponsored) chemicals on the ITC's TSCA section 4(e) Priority Testing List to submit certain unpublished health and safety data to EPA. The regulatory text of this document lists the voluntary HPV Challenge Program orphan (unsponsored) chemicals that are being added to the Health and Safety Data Reporting rule. The regulatory text also lists the data reporting requirements imposed by this amendment to the rule. (For additional information about EPA's voluntary HPV Challenge Program, visit the Challenge Program website at http://www.epa.gov/chemrtk/volchall.htm).

EPA is also making minor amendments to update the EPA addresses to which submissions under the Health and Safety Data reporting rule must be sent or delivered (40 CFR 716.30, 40 CFR 716.35, 40 CFR 716.60, and 40 CFR 716.105).

B. What is the Agency's Authority for Taking this Action?

EPA promulgated the model Health and Safety Data Reporting rule under section 8(d) of TSCA (15 U.S.C. 2607(d)), and it is codified at 40 CFR part 716. EPA uses this TSCA section 8(d) model rule to quickly gather current information on chemicals. The TSCA section 8(d) model rule requires certain past, current, and proposed manufacturers, importers, and (if specified by EPA in a particular notice or rule under TSCA section 8(d)) processors of listed chemicals to submit to EPA copies and lists of unpublished health and safety studies on the listed chemicals that they manufacture, import, or (if specified by EPA in a particular notice or rule under TSCA section 8(d)) process. These studies provide EPA with useful information and have provided significant support for EPA's decisionmaking under TSCA sections 4, 5, 6, 8, and 9.

This model TSCA section 8(d) rule provides for the addition of TSCA section 4(e) Priority Testing List chemicals. Whenever EPA announces the receipt of an ITC Report, EPA amends, unless otherwise instructed by the ITC, the model Health and Safety Data Reporting rule by adding the recommended (or designated) chemicals. The amendment adding these chemicals to the Health and Safety Data Reporting rule is effective 30 days after the date of publication in the Federal Register. Explanations of the procedures to follow if a respondent to this rule wishes to assert a claim of confidentiality for a part of a study or certain information contained in a study are provided at 40 CFR 716.55.

C. Why is this Action Being Issued as a Final Rule?

EPA is publishing this action as a final rule without prior notice and an opportunity for comment pursuant to the procedures set forth in 40 CFR 716.105(b) and (c). EPA finds that there is ``good cause'' under the Administrative Procedure Act (APA) (5 U.S.C. 553(b)(3)(B)) to make these amendments without prior notice and comment. EPA believes notice and an opportunity for comment on this action are unnecessary. TSCA directs the ITC to add chemicals to the Priority Testing List for which EPA should give priority consideration. EPA also lacks the authority to remove a chemical from the Priority Testing List once it has been added by the ITC. As explained earlier in this rule, pursuant to 40 CFR 716.105(b) and (c), once the ITC adds a chemical to the Priority Testing List, EPA in turn is obliged to add that chemical to the list of chemicals subject to Health and Safety Data Reporting rule reporting requirements, unless requested not to do so by the ITC. EPA promulgated this procedure in 1985 after having solicited public comment on the need for and mechanics of this procedure. (See the Federal Register of August 28, 1985 (50 FR 34809)). Because that rulemaking established the procedure for adding ITC chemicals to the Health and Safety Data Reporting rule, it is unnecessary to request comment on the procedure in this action. EPA believes this action does not raise any relevant issues for comment. EPA is not changing the Health and Safety Data Reporting rule reporting requirements or the process set forth in 40 CFR 716.105(b) and (c). Finally, 40 CFR 716.105(b) and (c) do provide EPA with the discretion to withdraw a chemical from the Health and Safety Data Reporting rule if a chemical manufacturer submits to EPA information showing good cause that a chemical should be removed from the Health and Safety Data Reporting rule.

III. Final Rule

A. What Chemicals are to be Added?

In this document, EPA is adding certain voluntary HPV Challenge Program orphan (unsponsored) chemicals to the TSCA section 8(d) Health and Safety Data Reporting rule as requested by the ITC in its 55th, 56th, and 58th ITC Reports (Refs. 1, 2, and 3).

B. What are the General Reporting Requirements and Deadlines?

The general provisions regarding the submission of copies and lists of studies under EPA's TSCA section 8(d) rule are located at 40 CFR 716.30 and 716.35, respectively, and additional reporting requirements and exemptions are described elsewhere in 40 CFR part 716. The reporting schedule and reporting period for persons subject to this rule (see 40 CFR 716.5) are described at 40 CFR 716.60 and 716.65.

C. What Types of Studies Must be Submitted?

Pursuant to 40 CFR 716.20(b)(5) and 716.50, the types of environmental fate, health, and/or environmental effects studies that must be reported and the chemical grade/purity requirements that must be met or exceeded in individual studies for the chemicals in the category of voluntary HPV Challenge Program orphan (unsponsored) chemicals added to the Health and Safety Data Reporting rule as a result of this document are as follows:

1. All unpublished environmental fate studies, meeting the criteria set forth in Unit III.C.4., on water solubility; adsorption/desorption on particulate surfaces, e.g., soil; vapor pressure; octanol/water partition coefficient; density/relative density (specific gravity); particle size distribution for insoluble solids; dissociation constant; degradation by photochemical mechanisms—aquatic and atmospheric; degradation by chemical mechanisms—hydrolytic, reductive, and oxidative; degradation by biological mechanisms—aerobic and anaerobic. Studies of physical and chemical properties, meeting the criteria set forth in Unit III.C.4., must be reported if performed for the purpose of determining the environmental or biological fate of a substance, and only if they investigated one or more of the properties listed in this paragraph. In addition, all unpublished studies, meeting the criteria set forth in Unit III.C.4., on melting point and boiling point must be submitted.

2. All unpublished health effects studies, meeting the criteria set forth in Unit III.C.4., including pharmacokinetics, genotoxicity, acute toxicity, subacute toxicity, subchronic toxicity, chronic toxicity, reproductive toxicity, developmental toxicity, immunotoxicity, neurotoxicity, and oncogenicity/carcinogenicity.

3. All unpublished environmental effects studies, meeting the criteria set forth in Unit III.C.4., including acute and chronic toxicity studies of aquatic and terrestrial vertebrates and invertebrates and aquatic plants.

4. Only studies where the voluntary HPV Challenge Program orphan (unsponsored) chemical is ≥ 90% of the test substance by weight should be submitted. In addition, only studies that were conducted using TSCA test guidelines (40 CFR parts 795, 796, 797, 798, and 799), FIFRA test guidelines (see the OPPTS Harmonized Test Guidelines at http://www.epa.gov/opptsfrs/home/guidelin.htm, the Pesticide Assessment Guidelines¹), Organization for Economic Cooperation and Development (OECD) test guidelines at http://www.oecd.org/document/13/0,2340,en_2649_201185_2740429_1_1_1_1,00.html, or other internationally accepted test guidelines or voluntary consensus standards should be submitted. Studies performed where the recommended voluntary HPV Challenge Program orphan (unsponsored) chemical is < 90% of the test substance by weight are not requested at this time. All other studies are exempt at this time from reporting.

¹ Pesticide Assessment Guidelines are available from the National Technical Information Service (NTIS). Address: 5285 Port Royal Rd., Springfield, VA 22161; telephone number: (703) 487-4650.

EPA requests that a robust summary of each submitted study or for all studies of a given endpoint be prepared and submitted with copies of each study. A robust summary contains the technical information necessary to adequately describe a study and includes the objectives, methods, results, and conclusions of the full study. A robust summary is intended to provide sufficient information to allow a technically qualified person to make an independent assessment of a given study without having to read the full study. A document entitled Draft Guidance on Developing Robust Summaries (Ref. 4), which is available on the website of the HPV Challenge Program at http://www.epa.gov/chemrtk/robsumgd.htm, and in the public docket for this final rule, can be used as a general framework for preparing robust summaries. Persons who intend to voluntarily respond to this request and who find it less burdensome to submit robust summary information via the High Production Volume Information System (HPVIS) rather than as hard copy documents are encouraged to submit robust summary information into HPVIS using the directions provided at https://iaspub.epa.gov/oppthpv/metadata.html. This link will direct you to the “HPVIS Quick Start and User's Guide.”

D. Additional Amendments to Update EPA Addresses

EPA is making minor amendments to update the EPA addresses to which: Copies of health and safety studies and the accompanying cover letters must be submitted (40 CFR 716.30), lists of health and safety studies must be submitted (40 CFR 716.35), requests for extensions of time must be submitted (40 CFR 716.60), and comments providing information that shows why a chemical should be withdrawn must be submitted (40 CFR 716.105). This update to the EPA addresses reflects the completion of the Agency's move to the Federal Triangle complex in Washington, DC. The addresses listed in the existing regulations are no longer the correct or complete Agency addresses to which this material must be submitted. The Agency finds that notice and comment on these amendments is unnecessary. The update is not substantive and does not affect the information manufacturers must report. The amendments merely reflect a change in the Agency's location. The Agency therefore finds the amendments to be minor in nature.

E. Economic Analysis

The economic analysis for the addition of certain chemicals to the TSCA section 8(d) Health and Safety Data Reporting rule is entitled Economic Analysis of the Addition of Chemicals from the 55th, 56th, and 58th ITC Reports to the 8(d) Health and Safety Data Reporting Rule (Ref. 5).

To determine the number of affected manufacturers and sites, EPA reviewed data from the last three reporting periods (i.e., 1994, 1998, and 2002) for EPA's Inventory Update Rule (IUR) (see 40 CFR part 710, subpart B) to identify the firms that manufactured the 243 chemicals. Using manufacturer and site information, EPA used sources, such as Dun and Bradstreet, to identify relevant NAICS codes or Standard Industrial Classification (SIC) codes for each company and/or facility. Where SIC codes were reported, they were cross matched with NAICS codes to assign a NAICS code to the company. Only companies that were associated at any corporate level (e.g., site or company) with NAICS codes 325 and 32411 were included. A total of 191 ultimate parent companies (UCEs) or firms operating 462 sites that meet the criteria were identified.

To estimate the number of health and safety data reports that might be submitted, EPA used data on the number of reports received in 2004. Specifically, in 2004, EPA added 15 chemicals to the Health and Safety Data Reporting rule. Seven firms reported the manufacture of those chemicals to the IUR. Of the seven firms, three submitted reports. This represents an average of 0.43 reports per manufacturer. These reports included a total of 14 separate health and safety studies, or approximately five studies per firm. Assuming the response rate to the 243 chemicals is proportional to the results for 2004, then 43% of the manufacturers, or 82 firms (0.43 x 191 firms), will each submit reports, and a total of 410 studies are anticipated (82 firms x 5 studies per firm). Given the assumptions in this unit, the costs associated with this rule are estimated in the Economic Analysis (Ref. 5) to be the following:

Total reporting costs = $110,000

Total EPA costs = $79,000

Total Rule Costs = $189,000

IV. Requesting a Chemical be Withdrawn from the Rule

As specified in 40 CFR 716.105(c), EPA may remove a chemical substance, mixture, or category of chemical substances or mixtures from this rule for good cause prior to September 15, 2006. Any person who believes that the reporting required by this rule is not warranted for a chemical listed in this rule, must submit to EPA detailed reasons for that belief.

EPA has established a policy regarding acceptance of new commitments to sponsor chemicals under the voluntary HPV Challenge Program (Ref. 6). Under this policy, EPA will accept new commitments to sponsor chemicals under the voluntary HPV Challenge Program for any of the 243 voluntary HPV Challenge Program orphan (unsponsored) chemicals listed in the regulatory text of this document until August 30, 2006. In accordance with the procedures described in 40 CFR 716.105(c), withdrawal requests submitted by chemical manufacturers in conjunction with these new commitments must be received on or before August 30, 2006. Voluntary HPV Challenge Program orphan (unsponsored) chemicals for which new commitments are accepted based on EPA's policy will be removed from the TSCA 8(d) Health and Safety Data Reporting rule, and a Federal Register document announcing these withdrawal decisions will be published no later than the effective date of this rule (i.e., September 15, 2006).

You must submit your request to EPA on or before August 30, 2006 and in accordance with the instructions provided in 40 CFR 716.105(c), which are briefly summarized here. In addition, to ensure proper receipt, EPA recommends that you identify docket ID number EPA-HQ-OPPT- 2005-0055 in the subject line on the first page of your submission. If the Administrator withdraws a chemical substance, mixture, or category of chemical substances or mixtures from the amendment, a Federal Register document announcing this decision will be published no later than September 15, 2006.

V. Materials in the Docket

The official docket for this rule has been established under docket ID number EPA-HQ-OPPT-2005-0055. The official public docket is available for review as specified in ADDRESSES. The following is a listing of the documents referenced in this preamble that have been placed in the official docket for this rule:

1. ITC. 2005. Fifty-Fifth Report of the ITC. Federal Register (70 FR 7364, February 11, 2005) (FRL-7692-1). Available on-line at: http://www.epa.gov/fedrgstr.

2 ITC. 2005. Fifty-Sixth Report of the ITC. Federal Register (70 FR 61519, October 24, 2005) (FRL-7739-9). Available on-line at: http://www.epa.gov/fedrgstr.

3 ITC. 2006. Fifty-Eight Report of the ITC. Federal Register (71 FR 39188, July 11, 2006) (FRL-8073-7). Available on-line at: http://www.epa.gov/fedrgstr.

4. EPA. 1999. Draft Guidance on Developing Robust Summaries. Available on-line at: http://www.epa.gov/chemrtk/robsumgd.htm. October 22, 1999.

5. EPA. 2006. Economic Analysis of the Addition of Chemicals from the 55th, 56th, and 58th ITC Reports to the 8(d) Health and Safety Data Reporting Rule. July 10, 2006.

6. EPA. 2006. Policy Regarding Acceptance of New Commitments to the High Production Volume (HPV) Challenge Program. Available on-line at: http://www.epa.gov/chemrtk/hpvpolcy.htm. June 2006.

VI. Statutory and Executive Order Reviews

A. Executive Order 12866

The Office of Management and Budget (OMB) has exempted actions under TSCA section 8(d) related to the Health and Safety Data Reporting rule from the requirements of Executive Order 12866, entitled Regulatory Planning and Review (58 FR 51735, October 4, 1993).

B. Paperwork Reduction Act

The information collection requirements contained in TSCA section 8(d) Health and Safety Data Reporting rules have already been approved by OMB under the provisions of the Paperwork Reduction Act (PRA), 44 U.S.C. 3501 et seq., and OMB control number 2070-0004 (EPA ICR No. 0575). The collection activities in this final rule are captured by the existing approval and do not require additional review and/or approval by OMB.

EPA estimates the total industry burden to be 1,764 hours as a result of the rule. An estimated 82 firms are expected to provide studies in response to the rule. The estimated burden per respondent is approximately 22 hours (Ref. 4). As defined by the PRA and 5 CFR 1320.3(b), “burden” means the total time, effort, or financial resources expended by persons to generate, maintain, retain, or disclose or provide information to or for a Federal Agency. This includes the time needed to: Review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Under the PRA, an agency may not conduct or sponsor, and a person is not required to respond to, an information collection request unless it displays a currently valid OMB control number. The OMB control numbers for EPA's regulations, including its regulations implementing TSCA section 8(d) at 40 CFR part 716, are listed in the table in 40 CFR part 9 and included on the related collection instrument. This listing of the OMB control numbers and their subsequent codification in the CFR satisfies the display requirements of PRA and OMB's implementing regulations at 5 CFR part 1320.

C. Regulatory Flexibility Act

Pursuant to section 605(b) of the Regulatory Flexibility Act (RFA), 5 U.S.C. 601 et seq., the Agency hereby certifies that this final rule will not have a significant adverse economic impact on a substantial number of small entities. The factual basis for the Agency's determination is presented in the small entity impact analysis prepared as part of the economic analysis for this rule (Ref. 5), and is briefly summarized here.

For this final rule, EPA has analyzed the potential small business impacts using the size standards established under the default definition of “small business” established under section 601(3) of RFA, which basically uses the definition used in section 3 of the Small Business Act (SBA), 15 U.S.C. 632, under which the SBA establishes small business size standards for each industry sector (13 CFR 121.201). The SBA size standards, which are primarily intended to determine whether a business entity is eligible for government programs and preferences reserved for small businesses (13 CFR 121.101), “seek to ensure that a concern that meets a specific size standard is not dominant in its field of operation.” (13 CFR 121.102(b)). See section 632(a)(1) of SBA. These standards vary according to the NAICS code of the business and are typically based upon number of employees or receipts. For most companies, EPA identified the NAICS code of a company's UCE and applied the relevant SBA size standard to determine if a business was small. Using this approach, EPA identified 37 small businesses that would potentially be affected by the rule. In addition, there are an additional five firms for which a determinations could not be made because sales and/or employment could not be found.

EPA's review of IUR data found that 32 of the 37 small businesses have only one site to review for studies, three firms have two sites, and two firms have three sites. Firms with three sites would potentially incur the highest costs of complying with the rule if all three sites were searched for studies. The estimated cost of the rule for firms with three sites is $1,348. For the small businesses where EPA had available data (36 of the 37 firms), the minimum sales level was $1 million with an average sales level of $128 million. Thus, the cost of the rule is expected to be well below 1% of sales ($1,348/$1,000,000 = .1%) for 36 of the small businesses. Assuming that each of the companies for which sales data were unavailable had at least the minimum level of sales, there are no small businesses for which this rule is expected to have an impact in excess of 1% of sales. Additionally, EPA believes that small firms are unlikely to have unpublished health and safety data studies due to the cost of developing the information, and would therefore, only expend resources to review the rule at a cost of $108. Given these results, EPA concludes that there is not a significant adverse economic impact on these small entities as a result of this final rule.

D. Unfunded Mandates Reform Act

Pursuant to Title II of the Unfunded Mandates Reform Act of 1995 (UMRA), Public Law 104-4, EPA has determined that this rule does not contain a Federal mandate that may result in expenditures of $100 million or more for State, local, and tribal governments, in the aggregate, or the private sector in any 1 year. In addition, EPA has determined that this rule will not significantly or uniquely affect small governments. Accordingly, the rule is not subject to the requirements of UMRA sections 202, 203, 204, or 205.

E. Executive Order 13132 and 13175

Based on EPA's experience with past TSCA section 8(d) rules, State, local, and tribal governments have not been impacted by these rules, and EPA does not have any reasons to believe that any State, local, or tribal government will be impacted by this rule. As a result, these rules are not subject to the requirements in Executive Order 13132, entitled Federalism (64 FR 43255, August 10, 1999) or Executive Order 13175, entitled Consultation and Coordination with Indian Tribal Governments (65 FR 67249, November 6, 2000).

F. Executive Order 13045

Executive Order 13045, entitled Protection of Children from Environmental Health Risks and Safety Risks (62 FR 19885, April 23,1997), does not apply to this rule, because it is not “economically significant” as defined under Executive Order 12866, and does not concern an environmental health or safety risk that may have a disproportionate effect on children. This rule requires the reporting of health and safety data to EPA by manufacturers (including importers) of certain chemicals requested by the ITC to be added to the Health and Safety Data Reporting rule in its 55th, 56th, and 58th ITC Reports (Refs. 1, 2, and 3).

G. Executive Order 13211

This rule is not subject to Executive Order 13211, entitled Actions Concerning Regulations That Significantly Affect Energy Supply, Distribution, or Use (66 FR 28355, May 22, 2001), because this action is not expected to affect energy supply, distribution, or use.

H. National Technology Transfer and Advancement Act

This action does not involve any technical standards that would require Agency consideration of voluntary consensus standards pursuant to section 12(d) of the National Technology Transfer and Advancement Act of 1995 (NTTAA), Public Law 104-113, section 12(d) (15 U.S.C. 272 note). Section 12(d) of NTTAA directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

I. Executive Order 12898

This action does not involve special considerations of environmental justice-related issues pursuant to Executive Order 12898, entitled Federal Actions to Address Environmental Justice in Minority Populations and Low-Income Populations (59 FR 7629, February 16, 1994).

VII. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 716

Environmental protection, Chemicals, Hazardous substances, Health and safety, Reporting and recordkeeping requirements.

Dated: August 3, 2006.
Charles M. Auer,
Director, Office of Pollution Prevention and Toxics.

Therefore, 40 CFR chapter I is amended as follows:

PART 716—[AMENDED]

1. The authority citation for part 716 continues to read as follows:

Authority: 15 U.S.C. 2607(d).

2. By adding a new paragraph (a) (7) to § 716.21 to read as follows:

§ 716.21 Chemical specific reporting requirements.

(a) * * *

(7) For all voluntary HPV Challenge Program orphan (unsponsored) chemicals:

(i) All unpublished environmental fate studies, meeting the criteria set forth in paragraph (a)(7)(iv) of this section, on water solubility; adsorption/desorption on particulate surfaces, e.g., soil; vapor pressure; octanol/water partition coefficient; density/relative density (specific gravity); particle size distribution for insoluble solids; dissociation constant; degradation by photochemical mechanisms—aquatic and atmospheric; degradation by chemical mechanisms—hydrolytic, reductive, and oxidative; degradation by biological mechanisms—aerobic and anaerobic. Studies of physical and chemical properties meeting the criteria set forth in paragraph (a)(7)(iv) of this section must be reported if performed for the purpose of determining the environmental or biological fate of a substance, and only if they investigated one or more of the properties listed in this paragraph. In addition, all unpublished studies meeting the criteria set forth in paragraph (a)(7)(iv) of this section on melting point and boiling point must be submitted.

(ii) All unpublished health effects studies meeting the criteria set forth in paragraph (a)(7)(iv) of this section including pharmacokinetics, genotoxicity, acute toxicity, subacute toxicity, subchronic toxicity, chronic toxicity, reproductive toxicity, developmental toxicity, immunotoxicity, neurotoxicity, and oncogenicity/carcinogenicity.

(iii) All unpublished environmental effects studies meeting the criteria set forth in paragraph (a)(7)(iv) of this section including acute and chronic toxicity studies of aquatic and terrestrial vertebrates and invertebrates and aquatic plants.

(iv) Only studies where the voluntary HPV Challenge Program orphan (unsponsored) chemical is ≥ 90% of the test substance by weight should be submitted. In addition, only studies that were conducted using TSCA, Federal Insecticide, Fungicide, and Rodenticide Act (FIFRA), Organization for Economic Cooperation and Development (OECD) or other internationally accepted test guidelines or voluntary consensus standards should be submitted. Studies performed where the voluntary HPV Challenge Program orphan (unsponsored) chemical is < 90% of the test substance by weight are not requested at this time.

* * * * *

3. By revising paragraph (c) of § 716.30 to read follows:

§ 716.30 Submission of copies of studies.

* * * * *

(c) You must submit copies of health and safety studies and the accompanying cover letters by one of the following methods:

(1) Mail, preferably certified, to the Document Control Office (DCO) (7407M), Office of Pollution Prevention and Toxics (OPPT), Environmental Protection Agency, 1200 Pennsylvania Ave., NW., Washington, DC 20460-0001, ATTN: 8(d) Health and Safety Reporting Rule (Notification/Reporting).

(2) Hand delivery to OPPT Document Control Office (DCO), EPA East, Rm. 6428, 1201 Constitution Ave., NW., Washington, DC, ATTN: 8(d) Health and Safety Reporting Rule (Notification/Reporting). The DCO is open from 8 a.m. to 4 p.m., Monday through Friday, excluding legal holidays. The telephone number for the DCO is (202) 564-8930. Such deliveries are only accepted during the DCO's normal hours of operation.

4. By revising paragraph (c) of § 716.35 to read follows:

§ 716.35 Submission of lists of studies.

* * * * *

(c) You must submit lists of health and safety studies by one of the following methods:

(1) Mail, preferably certified, to the Document Control Office (DCO) (7407M), Office of Pollution Prevention and Toxics (OPPT), Environmental Protection Agency, 1200 Pennsylvania Ave., NW., Washington, DC 20460-0001, ATTN: 8(d) Health and Safety Reporting Rule (Notification/Reporting).

(2) Hand delivery to OPPT Document Control Office (DCO), EPA East, Rm. 6428, 1201 Constitution Ave., NW., Washington, DC, ATTN: 8(d) Health and Safety Reporting Rule (Notification/Reporting). The DCO is open from 8 a.m. to 4 p.m., Monday through Friday, excluding legal holidays. The telephone number for the DCO is (202) 564-8930. Such deliveries are only accepted during the DCO's normal hours of operation.

5. In § 716.60, remove the second sentence of paragraph (c) and add a new paragraph (d) to read as follows:

§ 716.60 Reporting schedule.

* * * * *

(d) Submission methods. You must submit a request for an extension of time in writing by one of the following methods:

(1) Mail, preferably certified, to the Director, Office of Pollution Prevention and Toxics (OPPT) (7401M), Environmental Protection Agency, 1200 Pennsylvania Ave., NW., Washington, DC 20460-0001, ATTN: Section 8(d) Extension.

(2) Hand delivery to OPPT Document Control Office (DCO), EPA East, Rm. 6428, 1201 Constitution Ave., NW., Washington, DC, ATTN: Section 8(d) Extension. The DCO is open from 8 a.m. to 4 p.m., Monday through Friday, excluding legal holidays. The telephone number for the DCO is (202) 564-8930. Such deliveries are only accepted during the DCO's normal hours of operation.

6. In § 716.105, remove the last sentence of paragraph (c) and add a new paragraph (d) to read as follows:

§ 716.105 Additions of substances and mixtures to which this subpart applies.

* * * * *

(d) Persons who wish to submit information that shows why a chemical should be withdrawn must submit their comments in writing by one of the following methods:

(1) Mail, preferably certified, to the Document Control Office (DCO) (7407M), Office of Pollution Prevention and Toxics (OPPT), Environmental Protection Agency, 1200 Pennsylvania Ave., NW., Washington, DC 20460-0001, ATTN: 8(d) Auto-ITC.

(2) Hand delivery to OPPT Document Control Office (DCO), EPA East, Rm. 6428, 1201 Constitution Ave., NW., Washington, DC, ATTN: 8(d) Auto-ITC. The DCO is open from 8 a.m. to 4 p.m., Monday through Friday, excluding legal holidays. The telephone number for the DCO is (202) 564-8930. Such deliveries are only accepted during the DCO's normal hours of operation.

7. In § 716.120, the table in paragraph (d) is amended by adding in alphabetical order the category “Voluntary HPV Challenge Program orphan (unsponsored) chemicals” and its entries to read as follows:

§ 716.120 Substances and listed mixtures to which this subpart applies.

* * * * *

(d) * * *

Category | CAS No. | Special exemptions | Effective date | Sunset date
* * * * * * *
Voluntary HPV Challenge Program orphan (unsponsored) chemicals: |  |  |  |
Acetaldehyde, reaction products with formaldehyde, by-products from | 68442-60-4 | § 716.21(a)(7) | September 15, 2006 | November 14, 2006
Acetamide, 2,2-dichloro-N,N-di-2-propenyl- | 37764-25-3 | § 716.21(a)(7) | September 15, 2006 | November 14, 2006
Acid chlorides, tallow, hydrogenated | 68955-37-3 | § 716.21(a)(7) | September 15, 2006 | November 14, 2006
Alkanes, chloro | 61788-76-9 | § 716.21(a)(7) | September 15, 2006 | November 14, 2006
Alkenes, C>10 .alpha.- | 64743-02-8 | § 716.21(a)(7) | September 15, 2006 | November 14, 2006
Amides, coco, N-[3-(dimethylamino)propyl], alkylation products with sodium 3-chloro-2-hydroxypropanesulfonate | 70851-08-0 | § 716.21(a)(7) | September 15, 2006 | November 14, 2006
Amides, tall-oil fatty, N,N-di-Me | 68308-74-7 | § 716.21(a)(7) | September 15, 2006 | November 14, 2006
Ammonia liquor (coal) | 65996-80-7 | § 716.21(a)(7) | September 15, 2006 | November 14, 2006
Anthracene oil | 90640-80-5 | § 716.21(a)(7) | September 15, 2006 | November 14, 2006
Aromatic hydrocarbons, C8, o-xylene-lean | 68650-36-2 | § 716.21(a)(7) | September 15, 2006 | November 14, 2006
Aromatic hydrocarbons, C9-16, biphenyl deriv.-rich | 68955-76-0 | § 716.21(a)(7) | September 15, 2006 | November 14, 2006
Barium, carbonate nonylphenol complexes | 68515-89-9 | § 716.21(a)(7) | September 15, 2006 | November 14, 2006
Benzaldehyde, 3-bromo- | 3132-99-8 | § 716.21(a)(7) | September 15, 2006 | November 14, 2006
Benzaldehyde, 3-phenoxy- | 39515-51-0 | § 716.21(a)(7) | September 15, 2006 | November 14, 2006
Benzaldehyde, 4-(1,1-dimethylethyl)- | 939-97-9 | § 716.21(a)(7) | September 15, 2006 | November 14, 2006
Benzenamine, 2,6-diethyl- | 579-66-8 | § 716.21(a)(7) | September 15, 2006 | November 14, 2006
Benzenamine, 2,6-diethyl-N-methylene- | 35203-08-8 | § 716.21(a)(7) | September 15, 2006 | November 14, 2006
Benzenamine, 2-ethyl-6-methyl-N-methylene- | 35203-06-6 | § 716.21(a)(7) | September 15, 2006 | November 14, 2006
Benzenamine, 3-(trifluoromethyl)- | 98-16-8 | § 716.21(a)(7) | September 15, 2006 | November 14, 2006
Benzenamine, N,N-dimethyl- | 121-69-7 | § 716.21(a)(7) | September 15, 2006 | November 14, 2006
Benzenamine, N-phenyl-4-[[4-(phenylamino)phenyl][4-(phenylimino)-2,5-cyclohexadien-1-ylidene]methyl]-, monohydrochloride | 2152-64-9 | § 716.21(a)(7) | September 15, 2006 | November 14, 2006
Benzene, (2-chloro-1,1-dimethylethyl)- | 515-40-2 | § 716.21(a)(7) | September 15, 2006 | November 14, 2006
Benzene, 1-(bromomethyl)-3-phenoxy- | 51632-16-7 | § 716.21(a)(7) | September 15, 2006 | November 14, 2006
Benzene, 1,1'-[1,2-ethanediylbis(oxy)]bis- | 104-66-5 | § 716.21(a)(7) | September 15, 2006 | November 14, 2006
Benzene, 1,1'-oxybis-, tetrapropylene derivs. | 119345-02-7 | § 716.21(a)(7) | September 15, 2006 | November 14, 2006
Benzene, 1,2-dimethyl-3-nitro- | 83-41-0 | § 716.21(a)(7) | September 15, 2006 | November 14, 2006
Benzene, 1,2-dimethyl-4-nitro- | 99-51-4 | § 716.21(a)(7) | September 15, 2006 | November 14, 2006
Benzene, 1-bromo-4-fluoro- | 460-00-4 | § 716.21(a)(7) | September 15, 2006 | November 14, 2006
Benzene, 1-chloro-2,4-dinitro- | 97-00-7 | § 716.21(a)(7) | September 15, 2006 | November 14, 2006
Benzene, 1-chloro-4-(trichloromethyl)- | 5216-25-1 | § 716.21(a)(7) | September 15, 2006 | November 14, 2006
Benzene, 1-chloro-4-(trifluoromethyl)- | 98-56-6 | § 716.21(a)(7) | September 15, 2006 | November 14, 2006
Benzene, 1-methoxy-4-methyl- | 104-93-8 | § 716.21(a)(7) | September 15, 2006 | November 14, 2006
Benzene, chloromethyl- | 25168-05-2 | § 716.21(a)(7) | September 15, 2006 | November 14, 2006
Benzene, ethenylethyl- | 28106-30-1 | § 716.21(a)(7) | September 15, 2006 | November 14, 2006
Benzene, ethylenated | 68987-41-7 | § 716.21(a)(7) | September 15, 2006 | November 14, 2006
Benzene, mixed with toluene, dealkylation product | 68953-80-0 | § 716.21(a)(7) | September 15, 2006 | November 14, 2006
1,3-Benzenedicarboxylic acid, 5-sulfo-, 1,3-dimethyl ester | 138-25-0 | § 716.21(a)(7) | September 15, 2006 | November 14, 2006
1,3-Benzenedicarboxylic acid, 5-sulfo-, 1,3-dimethyl ester, sodium salt | 3965-55-7 | § 716.21(a)(7) | September 15, 2006 | November 14, 2006
1,2-Benzenedicarboxylic acid, bis(2-methylpropyl) ester | 84-69-5 | § 716.21(a)(7) | September 15, 2006 | November 14, 2006
1,3-Benzenedicarboxylic acid, dimethyl ester | 1459-93-4 | § 716.21(a)(7) | September 15, 2006 | November 14, 2006
1,4-Benzenedicarboxylic acid, dimethyl ester, manuf. of, by-products from | 68988-22-7 | § 716.21(a)(7) | September 15, 2006 | November 14, 2006
Benzenemethanol, .alpha.,.alpha.-dimethyl- | 617-94-7 | § 716.21(a)(7) | September 15, 2006 | November 14, 2006
Benzenemethanol, 3-phenoxy- | 13826-35-2 | § 716.21(a)(7) | September 15, 2006 | November 14, 2006
Benzenesulfonic acid, 3-nitro-, sodium salt | 127-68-4 | § 716.21(a)(7) | September 15, 2006 | November 14, 2006
Benzenesulfonic acid, 4-chloro-3,5-dinitro-, potassium salt | 38185-06-7 | § 716.21(a)(7) | September 15, 2006 | November 14, 2006
Benzenesulfonic acid, C10-16-alkyl derivs., compds. with triethanolamine | 68584-25-8 | § 716.21(a)(7) | September 15, 2006 | November 14, 2006
Benzenesulfonic acid, dimethyl- | 25321-41-9 | § 716.21(a)(7) | September 15, 2006 | November 14, 2006
Benzenesulfonyl chloride | 98-09-9 | § 716.21(a)(7) | September 15, 2006 | November 14, 2006
1,2-Benzisothiazol-3(2H)-one, 1,1-dioxide | 81-07-2 | § 716.21(a)(7) | September 15, 2006 | November 14, 2006
Benzoic acid, 2-methyl- | 118-90-1 | § 716.21(a)(7) | September 15, 2006 | November 14, 2006
2,4,6,8,3,5,7-Benzotetraoxatriplumbacycloundecin-3,5,7-triylidene, 1,9-dihydro-1,9-dioxo- | 17976-43-1 | § 716.21(a)(7) | September 15, 2006 | November 14, 2006
Benzothiazole, 2-[(chloromethyl)thio]- | 28908-00-1 | § 716.21(a)(7) | September 15, 2006 | November 14, 2006
Benzoyl chloride, 3,5-dichloro- | 2905-62-6 | § 716.21(a)(7) | September 15, 2006 | November 14, 2006
1,2-Butadiene | 590-19-2 | § 716.21(a)(7) | September 15, 2006 | November 14, 2006
Butane, 2,2'-oxybis- | 6863-58-7 | § 716.21(a)(7) | September 15, 2006 | November 14, 2006
Butanedioic acid, oxo-, diethyl ester, ion(1-), sodium | 40876-98-0 | § 716.21(a)(7) | September 15, 2006 | November 14, 2006
1-Butanol, sodium salt | 2372-45-4 | § 716.21(a)(7) | September 15, 2006 | November 14, 2006
2-Butenal | 4170-30-3 | § 716.21(a)(7) | September 15, 2006 | November 14, 2006
2-Butenediamide, (2E)-, N,N'-bis[2-(4,5-dihydro-2-nortall-oil alkyl-1H-imidazol-1-yl)ethyl] derivs. | 68442-77-3 | § 716.21(a)(7) | September 15, 2006 | November 14, 2006
2-Butenedioic acid (2E)-, di-C8-18-alkyl esters | 68610-90-2 | § 716.21(a)(7) | September 15, 2006 | November 14, 2006
2-Butenedioic acid (2Z)-, dioctyl ester | 2915-53-9 | § 716.21(a)(7) | September 15, 2006 | November 14, 2006
2-Butenenitrile, 2-methyl-, (2E)- | 30574-97-1 | § 716.21(a)(7) | September 15, 2006 | November 14, 2006
2-Butenenitrile, 2-methyl-, (2Z)- | 20068-02-4 | § 716.21(a)(7) | September 15, 2006 | November 14, 2006
Carbamic acid, monoammonium salt | 1111-78-0 | § 716.21(a)(7) | September 15, 2006 | November 14, 2006
Carbamodithioic acid, monoammonium salt | 513-74-6 | § 716.21(a)(7) | September 15, 2006 | November 14, 2006
Carbonochloridothioic acid, S-(phenylmethyl) ester | 37734-45-5 | § 716.21(a)(7) | September 15, 2006 | November 14, 2006
Carbonodithioic acid, O-(1-methylethyl) ester, sodium salt | 140-93-2 | § 716.21(a)(7) | September 15, 2006 | November 14, 2006
Carboxylic acids, C5-9 | 68603-84-9 | § 716.21(a)(7) | September 15, 2006 | November 14, 2006
Carboxylic acids, C6-18 and C5-15-di- | 68937-69-9 | § 716.21(a)(7) | September 15, 2006 | November 14, 2006
Carboxylic acids, C6-18 and C8-15-di- | 68937-70-2 | § 716.21(a)(7) | September 15, 2006 | November 14, 2006
Carboxylic acids, di-, C4-11 | 68937-72-4 | § 716.21(a)(7) | September 15, 2006 | November 14, 2006
Chromate(3-), bis[3-(hydroxy-.kappa.O)-4-[[2-(hydroxy-.kappa.O)-1-naphthalenyl]azo-.kappa.N1]-7-nitro-1-naphthalenesulfonato(3-)]-, trisodium | 57693-14-8 | § 716.21(a)(7) | September 15, 2006 | November 14, 2006
Coal, anthracite, calcined | 68187-59-7 | § 716.21(a)(7) | September 15, 2006 | November 14, 2006
Corn, steep liquor | 66071-94-1 | § 716.21(a)(7) | September 15, 2006 | November 14, 2006
Creosote | 8001-58-9 | § 716.21(a)(7) | September 15, 2006 | November 14, 2006
Cyclohexane, oxidized, aq. ext., sodium salt | 68915-39-9 | § 716.21(a)(7) | September 15, 2006 | November 14, 2006
Cyclohexane, oxidized, non-acidic by-products, distn. lights | 68609-05-2 | § 716.21(a)(7) | September 15, 2006 | November 14, 2006
Cyclohexanone, oxime | 100-64-1 | § 716.21(a)(7) | September 15, 2006 | November 14, 2006
3-Cyclohexene-1-carboxylic acid, 3-cyclohexen-1-ylmethyl ester | 2611-00-9 | § 716.21(a)(7) | September 15, 2006 | November 14, 2006
1,3-Cyclopentadiene | 542-92-7 | § 716.21(a)(7) | September 15, 2006 | November 14, 2006
Decane, 1-chloro- | 1002-69-3 | § 716.21(a)(7) | September 15, 2006 | November 14, 2006
Decanoic acid, mixed esters with dipentaerythritol, octanoic acid and valeric acid | 68441-66-7 | § 716.21(a)(7) | September 15, 2006 | November 14, 2006
1-Decene, sulfurized | 72162-15-3 | § 716.21(a)(7) | September 15, 2006 | November 14, 2006
Distillates (coal tar) | 65996-92-1 | § 716.21(a)(7) | September 15, 2006 | November 14, 2006
Distillates (coal tar), heavy oils | 90640-86-1 | § 716.21(a)(7) | September 15, 2006 | November 14, 2006
Distillates (coal tar), upper | 65996-91-0 | § 716.21(a)(7) | September 15, 2006 | November 14, 2006
Distillates (petroleum), hydrofined lubricating-oil | 68782-97-8 | § 716.21(a)(7) | September 15, 2006 | November 14, 2006
Distillates, hydrocarbon resin prodn. higher boiling | 68602-81-3 | § 716.21(a)(7) | September 15, 2006 | November 14, 2006
Disulfides, alkylaryl dialkyl diaryl, petroleum refinery spent caustic oxidn. products | 68334-01-0 | § 716.21(a)(7) | September 15, 2006 | November 14, 2006
Disulfides, C5-12-alkyl | 68513-62-2 | § 716.21(a)(7) | September 15, 2006 | November 14, 2006
Ethanamine, N-ethyl-N-hydroxy- | 3710-84-7 | § 716.21(a)(7) | September 15, 2006 | November 14, 2006
Ethane, 1,1,1-trimethoxy- | 1445-45-0 | § 716.21(a)(7) | September 15, 2006 | November 14, 2006
Ethane, 1,1'-[methylenebis(oxy)]bis[2-chloro- | 111-91-1 | § 716.21(a)(7) | September 15, 2006 | November 14, 2006
Ethane, 1,1'-oxybis[2-chloro- | 111-44-4 | § 716.21(a)(7) | September 15, 2006 | November 14, 2006
Ethane, 1,2-dichloro-, manuf. of, by-products from, distn. lights | 68608-59-3 | § 716.21(a)(7) | September 15, 2006 | November 14, 2006
Ethane, 1-chloro-2-(ethylthio)- | 693-07-2 | § 716.21(a)(7) | September 15, 2006 | November 14, 2006
1,2-Ethanediamine, N,N,N',N'-tetramethyl- | 110-18-9 | § 716.21(a)(7) | September 15, 2006 | November 14, 2006
Ethanedioic acid, calcium salt (1:1) | 563-72-4 | § 716.21(a)(7) | September 15, 2006 | November 14, 2006
1,2-Ethanediol, dinitrate | 628-96-6 | § 716.21(a)(7) | September 15, 2006 | November 14, 2006
Ethanesulfonic acid, 2-[methyl[(9Z)-1-oxo-9-octadecenyl]amino]-, sodium salt | 137-20-2 | § 716.21(a)(7) | September 15, 2006 | November 14, 2006
Ethanimidothioic acid, N-hydroxy-, methyl ester | 13749-94-5 | § 716.21(a)(7) | September 15, 2006 | November 14, 2006
Ethanol, 2-(2-butoxyethoxy)-, sodium salt | 38321-18-5 | § 716.21(a)(7) | September 15, 2006 | November 14, 2006
Ethanol, 2,2'-oxybis-, reaction products with ammonia, morpholine derivs. residues | 68909-77-3 | § 716.21(a)(7) | September 15, 2006 | November 14, 2006
Ethanol, 2,2'-oxybis-, reaction products with ammonia, morpholine product tower residues | 71077-05-9 | § 716.21(a)(7) | September 15, 2006 | November 14, 2006
Ethanol, 2-[(4-aminophenyl)sulfonyl]-, hydrogen sulfate (ester) | 2494-89-5 | § 716.21(a)(7) | September 15, 2006 | November 14, 2006
Ethanol, 2-[2-(dodecyloxy)ethoxy]-, hydrogen sulfate, sodium salt | 3088-31-1 | § 716.21(a)(7) | September 15, 2006 | November 14, 2006
Ethanol, 2-butoxy-, sodium salt | 52663-57-7 | § 716.21(a)(7) | September 15, 2006 | November 14, 2006
Ethene, hydrated, by-products from | 68987-66-6 | § 716.21(a)(7) | September 15, 2006 | November 14, 2006
Ethenesulfonic acid, sodium salt | 3039-83-6 | § 716.21(a)(7) | September 15, 2006 | November 14, 2006
Extract oils (coal), tar base | 65996-86-3 | § 716.21(a)(7) | September 15, 2006 | November 14, 2006
Extract residues (coal), tar oil alk. | 65996-87-4 | § 716.21(a)(7) | September 15, 2006 | November 14, 2006
Extract residues (coal), tar oil alk., naphthalene distn. residues | 73665-18-6 | § 716.21(a)(7) | September 15, 2006 | November 14, 2006
Extracts, coal tar oil alk. | 65996-83-0 | § 716.21(a)(7) | September 15, 2006 | November 14, 2006
Fats and Glyceridic oils, vegetable, deodorizer distillates | 68476-80-2 | § 716.21(a)(7) | September 15, 2006 | November 14, 2006
Fats and Glyceridic oils, vegetable, reclaimed | 68990-65-8 | § 716.21(a)(7) | September 15, 2006 | November 14, 2006
Fatty acids, coco, 2-sulfoethyl esters, sodium salts | 61789-32-0 | § 716.21(a)(7) | September 15, 2006 | November 14, 2006
Fatty acids, tall-oil, 2-(2-hydroxyethoxy)ethyl esters | 68309-16-0 | § 716.21(a)(7) | September 15, 2006 | November 14, 2006
Fatty acids, tall-oil, low-boiling, reaction products with ammonia-ethanolamine reaction by-products | 68915-05-9 | § 716.21(a)(7) | September 15, 2006 | November 14, 2006
Fatty acids, tall-oil, reaction products with diethylenetriamine, acetates | 68153-60-6 | § 716.21(a)(7) | September 15, 2006 | November 14, 2006
Fatty acids, tall-oil, sulfonated, sodium salts | 68309-27-3 | § 716.21(a)(7) | September 15, 2006 | November 14, 2006
Formic acid, compd. with 2,2',2''-nitrilotris[ethanol] (1:1) | 24794-58-9 | § 716.21(a)(7) | September 15, 2006 | November 14, 2006
Fuel gases, coke-oven | 65996-81-8 | § 716.21(a)(7) | September 15, 2006 | November 14, 2006
2,5-Furandione, 3-(hexadecenyl)dihydro- | 32072-96-1 | § 716.21(a)(7) | September 15, 2006 | November 14, 2006
2,5-Furandione, dihydro-3-(octadecenyl)- | 28777-98-2 | § 716.21(a)(7) | September 15, 2006 | November 14, 2006
2,5-Furandione, dihydro-3-(octenyl)- | 26680-54-6 | § 716.21(a)(7) | September 15, 2006 | November 14, 2006
Glycine, N-(carboxymethyl)- | 142-73-4 | § 716.21(a)(7) | September 15, 2006 | November 14, 2006
Glycine, N-(carboxymethyl)-, disodium salt | 928-72-3 | § 716.21(a)(7) | September 15, 2006 | November 14, 2006
Glycine, N-methyl-, monosodium salt | 4316-73-8 | § 716.21(a)(7) | September 15, 2006 | November 14, 2006
Glycine, N-phenyl-, monopotassium salt | 19525-59-8 | § 716.21(a)(7) | September 15, 2006 | November 14, 2006
Glycine, N-phenyl-, monosodium salt | 10265-69-7 | § 716.21(a)(7) | September 15, 2006 | November 14, 2006
1-Hexacosanol | 506-52-5 | § 716.21(a)(7) | September 15, 2006 | November 14, 2006
Hexadecane, 1-chloro- | 4860-03-1 | § 716.21(a)(7) | September 15, 2006 | November 14, 2006
1,4-Hexadiene | 592-45-0 | § 716.21(a)(7) | September 15, 2006 | November 14, 2006
Hexanedioic acid, dihexyl ester | 110-33-8 | § 716.21(a)(7) | September 15, 2006 | November 14, 2006
Hexanedioic acid, esters with high-boiling C6-10-alkene hydroformylation products | 84501-86-0 | § 716.21(a)(7) | September 15, 2006 | November 14, 2006
1,3-Hexanediol, 2-ethyl- | 94-96-2 | § 716.21(a)(7) | September 15, 2006 | November 14, 2006
1,6-Hexanediol, distn. residues | 68937-29-1 | § 716.21(a)(7) | September 15, 2006 | November 14, 2006
2-Hexenal, 2-ethyl- | 645-62-5 | § 716.21(a)(7) | September 15, 2006 | November 14, 2006
1H-Isoindole-1,3(2H)-dione, 3a,4,7,7a-tetrahydro- | 85-40-5 | § 716.21(a)(7) | September 15, 2006 | November 14, 2006
Hydrazinecarbodithioic acid, compd. with hydrazine (1:1) | 20469-71-0 | § 716.21(a)(7) | September 15, 2006 | November 14, 2006
Hydrocarbons, C12-20, catalytic alkylation by-products | 68919-17-5 | § 716.21(a)(7) | September 15, 2006 | November 14, 2006
Imidodicarbonic diamide, N,N',2-tris(6-isocyanatohexyl)- | 4035-89-6 | § 716.21(a)(7) | September 15, 2006 | November 14, 2006
1,3-Isobenzofurandione, 5-methyl- | 19438-61-0 | § 716.21(a)(7) | September 15, 2006 | November 14, 2006
Ketones, C12-branched | 68514-41-0 | § 716.21(a)(7) | September 15, 2006 | November 14, 2006
Lard, oil, Me esters | 68082-78-0 | § 716.21(a)(7) | September 15, 2006 | November 14, 2006
Methane, bromochloro- | 74-97-5 | § 716.21(a)(7) | September 15, 2006 | November 14, 2006
Methane, trifluoro- | 75-46-7 | § 716.21(a)(7) | September 15, 2006 | November 14, 2006
Methanesulfonamide, N-[2-[(4-amino-3-methylphenyl)ethylamino]ethyl]-, sulfate (2:3) | 25646-71-3 | § 716.21(a)(7) | September 15, 2006 | November 14, 2006
Methanesulfonic acid, hydroxy-, monosodium salt | 870-72-4 | § 716.21(a)(7) | September 15, 2006 | November 14, 2006
Methanesulfonyl chloride | 124-63-0 | § 716.21(a)(7) | September 15, 2006 | November 14, 2006
Methanone, (2-hydroxy-4-methoxyphenyl)phenyl- | 131-57-7 | § 716.21(a)(7) | September 15, 2006 | November 14, 2006
Naphtha (petroleum), clay-treated light straight-run | 68527-22-0 | § 716.21(a)(7) | September 15, 2006 | November 14, 2006
2,7-Naphthalenedisulfonic acid, 4-amino-5-hydroxy-, monosodium salt | 5460-09-3 | § 716.21(a)(7) | September 15, 2006 | November 14, 2006
1-Naphthalenesulfonic acid, 2-amino- | 81-16-3 | § 716.21(a)(7) | September 15, 2006 | November 14, 2006
2-Naphthalenesulfonic acid, 6-[(2,4-diaminophenyl)azo]-3-[[4-[[4-[[7-[(2,4-diaminophenyl)azo]-1-hydroxy-3-sulfo-2-naphthalenyl]azo]phenyl]amino]-3-sulfophenyl]azo]-4-hydroxy-, trisodium salt | 6473-13-8 | § 716.21(a)(7) | September 15, 2006 | November 14, 2006
1-Naphthalenol, 1,2,3,4-tetrahydro- | 529-33-9 | § 716.21(a)(7) | September 15, 2006 | November 14, 2006
1(2H)-Naphthalenone, 3,4-dihydro- | 529-34-0 | § 716.21(a)(7) | September 15, 2006 | November 14, 2006
1H,3H-Naphtho[1,8-cd]pyran-1,3-dione | 81-84-5 | § 716.21(a)(7) | September 15, 2006 | November 14, 2006
Nickel, bis[(cyano-C)triphenylborato(1-)-N]bis(hexanedinitrile-N,N')- | 83864-02-2 | § 716.21(a)(7) | September 15, 2006 | November 14, 2006
1-Octacosanol | 557-61-9 | § 716.21(a)(7) | September 15, 2006 | November 14, 2006
Octadecane, 1-chloro- | 3386-33-2 | § 716.21(a)(7) | September 15, 2006 | November 14, 2006
Octadecanoic acid, 2-(1-carboxyethoxy)-1-methyl-2-oxoethyl ester, sodium salt | 25383-99-7 | § 716.21(a)(7) | September 15, 2006 | November 14, 2006
Octadecanoic acid, 2-(hydroxymethyl)-2-[[(1-oxooctadecyl)oxy]methyl]-1,3-propanediyl ester | 28188-24-1 | § 716.21(a)(7) | September 15, 2006 | November 14, 2006
Octadecanoic acid, barium salt | 6865-35-6 | § 716.21(a)(7) | September 15, 2006 | November 14, 2006
Octadecanoic acid, reaction products with 2-[(2-aminoethyl)amino]ethanol | 68815-50-9 | § 716.21(a)(7) | September 15, 2006 | November 14, 2006
9-Octadecenoic acid (9Z)-, cobalt salt | 14666-94-5 | § 716.21(a)(7) | September 15, 2006 | November 14, 2006
9-Octadecenoic acid, 12-(acetyloxy)-, 1,2,3-propanetriyl ester, (9Z,9'Z,9''Z,12R,12'R,12''R)- | 101-34-8 | § 716.21(a)(7) | September 15, 2006 | November 14, 2006
Octane, 1-chloro- | 111-85-3 | § 716.21(a)(7) | September 15, 2006 | November 14, 2006
1-Octanesulfonyl chloride | 7795-95-1 | § 716.21(a)(7) | September 15, 2006 | November 14, 2006
1-Octanesulfonyl fluoride | 40630-63-5 | § 716.21(a)(7) | September 15, 2006 | November 14, 2006
Oxirane, [(2-methylphenoxy)methyl]- | 2210-79-9 | § 716.21(a)(7) | September 15, 2006 | November 14, 2006
Oxirane, tetradecyl- | 7320-37-8 | § 716.21(a)(7) | September 15, 2006 | November 14, 2006
Oxiranemethanamine, N-[4-(oxiranylmethoxy)phenyl]-N-(oxiranylmethyl)- | 5026-74-4 | § 716.21(a)(7) | September 15, 2006 | November 14, 2006
Paraffin oils, chlorosulfonated, saponified | 68188-18-1 | § 716.21(a)(7) | September 15, 2006 | November 14, 2006
2-Pentanamine, 2,4,4-trimethyl- | 107-45-9 | § 716.21(a)(7) | September 15, 2006 | November 14, 2006
3-Pentanone | 96-22-0 | § 716.21(a)(7) | September 15, 2006 | November 14, 2006
1-Pentene, 2,4,4-trimethyl- | 107-39-1 | § 716.21(a)(7) | September 15, 2006 | November 14, 2006
2-Pentene, 2,4,4-trimethyl- | 107-40-4 | § 716.21(a)(7) | September 15, 2006 | November 14, 2006
Phenol, (1,1,3,3-tetramethylbutyl)- | 27193-28-8 | § 716.21(a)(7) | September 15, 2006 | November 14, 2006
Phenol, (1-methylethyl)- | 25168-06-3 | § 716.21(a)(7) | September 15, 2006 | November 14, 2006
Phenol, 2-(1,1-dimethylethyl)-4-methyl- | 2409-55-4 | § 716.21(a)(7) | September 15, 2006 | November 14, 2006
Phenol, 2,4-bis(1,1-dimethylpropyl)-6-[(2-nitrophenyl)azo]- | 52184-19-7 | § 716.21(a)(7) | September 15, 2006 | November 14, 2006
Phenol, 2,4-bis(1-methyl-1-phenylethyl)-6-[(2-nitrophenyl)azo]- | 70693-50-4 | § 716.21(a)(7) | September 15, 2006 | November 14, 2006
Phenol, 3-(diethylamino)- | 91-68-9 | § 716.21(a)(7) | September 15, 2006 | November 14, 2006
Phenol, 4-methyl-2-nitro- | 119-33-5 | § 716.21(a)(7) | September 15, 2006 | November 14, 2006
Phenol, isobutylenated methylstyrenated | 68457-74-9 | § 716.21(a)(7) | September 15, 2006 | November 14, 2006
Phenol, methyl-, sodium salt | 34689-46-8 | § 716.21(a)(7) | September 15, 2006 | November 14, 2006
Phenol, nonyl derivs. | 68081-86-7 | § 716.21(a)(7) | September 15, 2006 | November 14, 2006
Phenol, styrenated | 61788-44-1 | § 716.21(a)(7) | September 15, 2006 | November 14, 2006
Phenols (petroleum) | 64743-03-9 | § 716.21(a)(7) | September 15, 2006 | November 14, 2006
Phosphoramidothioic acid, O,O-dimethyl ester | 17321-47-0 | § 716.21(a)(7) | September 15, 2006 | November 14, 2006
Phosphoric acid, (1,1-dimethylethyl)phenyl diphenyl ester | 56803-37-3 | § 716.21(a)(7) | September 15, 2006 | November 14, 2006
Phosphoric acid, mixed 3-bromo-2,2-dimethylpropyl and 2-bromoethyl and 2-chloroethyl esters | 125997-20-8 | § 716.21(a)(7) | September 15, 2006 | November 14, 2006
Phosphorochloridothioic acid, O,O-dimethyl ester | 2524-03-0 | § 716.21(a)(7) | September 15, 2006 | November 14, 2006
Phosphorochloridous acid, bis(4-nonylphenyl) ester | 63302-49-8 | § 716.21(a)(7) | September 15, 2006 | November 14, 2006
Phosphorodichloridic acid, ethyl ester | 1498-51-7 | § 716.21(a)(7) | September 15, 2006 | November 14, 2006
Phosphorodithioic acid, O,O-di-C1-14-alkyl esters | 68187-41-7 | § 716.21(a)(7) | September 15, 2006 | November 14, 2006
Phosphorodithioic acid, O,O-di-C1-14-alkyl esters, zinc salts | 68649-42-3 | § 716.21(a)(7) | September 15, 2006 | November 14, 2006
Phosphorodithioic acid, O,O-diethyl ester, sodium salt | 3338-24-7 | § 716.21(a)(7) | September 15, 2006 | November 14, 2006
Phosphorodithioic acid, O,O-dimethyl ester | 756-80-9 | § 716.21(a)(7) | September 15, 2006 | November 14, 2006
Phosphorodithioic acid, O,O-dimethyl ester, sodium salt | 26377-29-7 | § 716.21(a)(7) | September 15, 2006 | November 14, 2006
Phosphorotrithious acid, tributyl ester | 150-50-5 | § 716.21(a)(7) | September 15, 2006 | November 14, 2006
Phosphorous acid, 2-(1,1-dimethylethyl)-4-[1-[3-(1,1-dimethylethyl)-4-hydroxyphenyl]-1-methylethyl]phenyl bis(4-nonylphenyl) ester | 20227-53-6 | § 716.21(a)(7) | September 15, 2006 | November 14, 2006
Phosphorous acid, isooctyl diphenyl ester | 26401-27-4 | § 716.21(a)(7) | September 15, 2006 | November 14, 2006
Piperazineethanol | 25154-38-5 | § 716.21(a)(7) | September 15, 2006 | November 14, 2006
Pitch, coal tar-petroleum | 68187-57-5 | § 716.21(a)(7) | September 15, 2006 | November 14, 2006
Propane, 2,2-dimethoxy- | 77-76-9 | § 716.21(a)(7) | September 15, 2006 | November 14, 2006
1,3-Propanediol, 2-amino-2-(hydroxymethyl)- | 77-86-1 | § 716.21(a)(7) | September 15, 2006 | November 14, 2006
Propanenitrile, 3-(dimethylamino)- | 1738-25-6 | § 716.21(a)(7) | September 15, 2006 | November 14, 2006
1-Propanesulfonic acid, 2-hydroxy-3-(2-propenyloxy)-, monosodium salt | 52556-42-0 | § 716.21(a)(7) | September 15, 2006 | November 14, 2006
Propanoic acid, 2-bromo- | 598-72-1 | § 716.21(a)(7) | September 15, 2006 | November 14, 2006
Propanoic acid, 2-methyl-, 3-(benzoyloxy)-2,2,4-trimethylpentyl ester | 22527-63-5 | § 716.21(a)(7) | September 15, 2006 | November 14, 2006
Propanoic acid, 3-hydroxy-2,2-dimethyl-, 3-hydroxy-2,2-dimethylpropyl ester | 1115-20-4 | § 716.21(a)(7) | September 15, 2006 | November 14, 2006
2-Propanone, reaction products with phenol | 72162-28-8 | § 716.21(a)(7) | September 15, 2006 | November 14, 2006
2-Propenoic acid, 2-carboxyethyl ester | 24615-84-7 | § 716.21(a)(7) | September 15, 2006 | November 14, 2006
Pyridine, hydrochloride | 628-13-7 | § 716.21(a)(7) | September 15, 2006 | November 14, 2006
4(1H)-Pyrimidinone, 6-methyl-2-(1-methylethyl)- | 2814-20-2 | § 716.21(a)(7) | September 15, 2006 | November 14, 2006
Residues (petroleum), steam-cracked petroleum distillates cyclopentadiene conc., C4-cyclopentadiene-free | 68478-20-6 | § 716.21(a)(7) | September 15, 2006 | November 14, 2006
Silane, dichloro(chloromethyl)methyl- | 1558-33-4 | § 716.21(a)(7) | September 15, 2006 | November 14, 2006
Solvent naphtha (coal) | 65996-79-4 | § 716.21(a)(7) | September 15, 2006 | November 14, 2006
Sulfonic acids, petroleum | 61789-85-3 | § 716.21(a)(7) | September 15, 2006 | November 14, 2006
Tannins | 1401-55-4 | § 716.21(a)(7) | September 15, 2006 | November 14, 2006
Tannins, reaction products with sodium bisulfite, sodium polysulfide and sodium sulfite | 72854-27-4 | § 716.21(a)(7) | September 15, 2006 | November 14, 2006
Tar oils, coal | 65996-82-9 | § 716.21(a)(7) | September 15, 2006 | November 14, 2006
Tar, coal, dried and oxidized | 68918-16-1 | § 716.21(a)(7) | September 15, 2006 | November 14, 2006
Tar, coal, high-temp. | 65996-89-6 | § 716.21(a)(7) | September 15, 2006 | November 14, 2006
Tar, coal, high-temp., high-solids | 68990-61-4 | § 716.21(a)(7) | September 15, 2006 | November 14, 2006
Terpenes and Terpenoids, C10-30, distn. residues | 70084-98-9 | § 716.21(a)(7) | September 15, 2006 | November 14, 2006
1-Tetracosanol | 506-51-4 | § 716.21(a)(7) | September 15, 2006 | November 14, 2006
Tetradecane, 1-chloro- | 2425-54-9 | § 716.21(a)(7) | September 15, 2006 | November 14, 2006
1,3,5,7-Tetrazocine, octahydro-1,3,5,7-tetranitro- | 2691-41-0 | § 716.21(a)(7) | September 15, 2006 | November 14, 2006
Thiazole, 4-methyl- | 693-95-8 | § 716.21(a)(7) | September 15, 2006 | November 14, 2006
Thiourea | 62-56-6 | § 716.21(a)(7) | September 15, 2006 | November 14, 2006
1,2,4-Triazin-5(2H)-one, 4-amino-6-(1,1-dimethylethyl)-3,4-dihydro-3-thioxo- | 33509-43-2 | § 716.21(a)(7) | September 15, 2006 | November 14, 2006
1,3,5-Triazine, hexahydro-1,3,5-trinitro- | 121-82-4 | § 716.21(a)(7) | September 15, 2006 | November 14, 2006
1,3,5-Triazine-2,4,6(1H,3H,5H)-trione, 1,3,5-tris(6-isocyanatohexyl)- | 3779-63-3 | § 716.21(a)(7) | September 15, 2006 | November 14, 2006
1,3,5-Triazine-2,4-diamine, 6-chloro-N-(1,1-dimethylethyl)-N'-ethyl- | 5915-41-3 | § 716.21(a)(7) | September 15, 2006 | November 14, 2006
1,3,5-Triazine-2,4-diamine, 6-chloro-N,N'-bis(1-methylethyl)- | 139-40-2 | § 716.21(a)(7) | September 15, 2006 | November 14, 2006
1,3,5-Triazine-2,4-diamine, 6-chloro-N-ethyl-N'-(1-methylethyl)- | 1912-24-9 | § 716.21(a)(7) | September 15, 2006 | November 14, 2006
Urea, (hydroxymethyl)- | 1000-82-4 | § 716.21(a)(7) | September 15, 2006 | November 14, 2006
Urea, N'-(3,4-dichlorophenyl)-N,N-dimethyl- | 330-54-1 | § 716.21(a)(7) | September 15, 2006 | November 14, 2006
Urea, sulfate (1:1) | 21351-39-3 | § 716.21(a)(7) | September 15, 2006 | November 14, 2006
Urea, sulfate (2:1) | 17103-31-0 | § 716.21(a)(7) | September 15, 2006 | November 14, 2006

[FR Doc. E6-13489 Filed 8-15-06; 8:45 am]

BILLING CODE 6560-50-S